FEDERAL MARITIME COMMISSION

[Docket No. 22-01]

CCMA, LLC, Complainant v. Safmarine, Inc. and Ports America Chesapeake, LLC, Respondents; Notice of Filing of Complaint and Assignment

Notice is given that a complaint has been filed with the Federal Maritime Commission (Commission) by CCMA, LLC, hereinafter “Complainant,” against Safmarine, Inc. and Ports America Chesapeake, LLC, hereinafter “Respondents.” Complainant is a Delaware corporation that purchased containers of high carbon ferro for shipment to Baltimore. Complainant alleges that Respondent Safmarine, Inc. is a Delaware corporation and common carrier, and that Respondent Ports America Chesapeake, LLC is a Delaware corporation and a marine terminal operator.

Complainant alleges that Respondents violated 46 U.S.C. 41102(c) and 46 CFR 545.4 and 545.5 with regard to assessing demurrage charges against shipments that are subject to a governmental hold for examination by Customs, and therefore, unavailable for pick-up. The full text of the complaint can be found in the Commission's Electronic Reading Room at https://www2.fmc.gov/readingroom/proceeding/22-01/.

This proceeding has been assigned to Office of Administrative Law Judges. The initial decision of the presiding office in this proceeding shall be issued by January 5, 2023, and the final decision of the Commission shall be issued by July 19, 2023.

William Cody,
Secretary.

[FR Doc. 2022-00249 Filed 1-10-22; 8:45 am]

BILLING CODE 6730-02-P